ENVIRONMENTAL PROTECTION AGENCY

[ER-FRL-6627-9]

Environmental Impact Statements; Notice of Availabitlity

Responsible Agency: Office of Federal Activities, General Information (202) 564-7167 or www.epa.gov/oeca/ofa

Weekly receipt of Environmental Impact Statements

Filed March 25, 2002 Through March 29, 2002

Pursuant to 40 CFR 1506.9.

EIS No. 020121, Draft Supplement, NOA, Regulatory Adjustment 2 to the Atlantic Tunas, Swordfish, and Sharks Fishery Management Plan, Proposed Rule to Reduce Sea Turtle Bycatch and Bycatch Mortality in Highly Migratory Species Fisheries, Comment Period Ends: May 20, 2002, Contact: Christopher Rogers (301) 713-2347.

This document is available on the Internet at: (http://www.nmfs.noaa.gov/sfa/hmspg.html).

EIS No. 020122, Draft Supplement, NPS, NV, Great Basin National Park (GRBA) Amendment to the General Management Plan (GMP), Proposal to Construct a Visitor Learning Center on an 80-acre Parcel of Land North of the Town of Baker, NV, Comment Period Ends: June 04, 2002, Contact: Becky Mills (775) 234-7331.

EIS No. 020123, Draft EIS, COE, CA, Middle Creek Flood Damage Reduction and Ecosystem Restoration Project, Implementation, Located between Highway 20 and Middle Creek immediately northwest of Clear Lake, Lake County, CA, Comment Period Ends: May 20, 2002, Contact: Jerry Fuentes (916) 557-6706.

EIS No. 020124, Draft EIS, FRC, CT, NY, Islander East Pipeline Project, To Construct and Operate an Interstate Natural Gas Pipeline Facilities, To Provide 285.009 dekatherms per day (Dth/d) of natural gas to energy market, New Haven, CT and Suffolk County, NY, Comment Period Ends: May 20, 2002, Contact: Margalie R. Salas (202) 208-2156.

EIS No. 020125, Final EIS, FTA, MN, Northstar Transportation Corridor Project, Improvements from downtown Minneapolis to the St. Cloud area along Trunk Highway (TH) 10/47 and the Burlington Northern Santa Fe (BNSF) Railroad Transcontinental Route, Connecting the Hiawatha Light Rail Transit (LRT) Line at a Multi-Modal Station, Minneapolis/St. Paul (MSP) International, Wait Period Ends: May 06, 2002, Contact: Joel Ettinger (312) 353-2865.

EIS No. 020126, Final Supplement, TVA, AL, Browns Ferry Nuclear Plant, Operating License Renewal, Units 2 and 3 and Potentially Unit 1 Operations Extension, Athens, Limstone County, AL, Wait Period Ends: May 06, 2002, Contact: Bruce L. Yeager (865) 632-8051.

EIS No. 020127, Draft EIS, COE, FL, Broward County Shore Protection Project, Proposed for Fill Placement in Segment II (Hillsboro Inlet to Port Everglades) and Segment III (Port Everglades to the south County Line), Broward County, FL , Comment Period Ends: May 20, 2002, Contact: Yvonne Haberer (904) 232-1701.

Amended Notices

EIS No. 020118, Draft EIS, FHW, NC, Second Bridge to Oak Island project, Transportation Improve from SR-1104 (Beach Drive) to NC-211, COE Section 404 Permit and US Coast Guard Permit, Federal Aid Project No. STP.1105(6), State Project No. 8.2231201, and TIP NO. R-2245, Brunswick County, NC, Comment Period Ends: May 13, 2002, Contact: Nicholas L. Graf (919) 856-4346.

Published FR 03-29-02 Correction to Comment Period from 04-29-2002 to 05-13-2002.

Dated: April 2, 2002.
B. Katherine Biggs,
Associate Director, NEPA Compliance Division, Office of Federal Activities.

[FR Doc. 02-8300 Filed 4-4-02; 8:45 am]

BILLING CODE 6560-50-P